DEPARTMENT OF HEALTH AND HUMAN SERVICES

Centers for Medicare & Medicaid Services

[Document Identifiers: CMS-10501 and CMS-10635]

Agency Information Collection Activities: Submission for OMB Review; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected; and the use of automated collection techniques or other forms of information technology to minimize the information collection burden.

DATES: Comments on the collection(s) of information must be received by the OMB desk officer by May 8, 2017.

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806 OREmail: OIRA_submission@omb.eop.gov.

To obtain copies of a supporting statement and any related forms for the proposed collection(s) summarized in this notice, you may make your request using one of following:

1. Access CMS' Web site address at Web site address at https://www.cms.gov/Regulations-and-Guidance/Legislation/PaperworkReductionActof1995/PRA-Listing.html.

2. Email your request, including your address, phone number, OMB number, and CMS document identifier, to Paperwork@cms.hhs.gov.

3. Call the Reports Clearance Office at (410) 786-1326.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. Comments submitted in response to the 60-day FR Notice have been addressed in Appendix A of the ICR. To comply with this requirement, CMS is publishing this notice that summarizes the following proposed collection(s) of information for public comment:

1. Type of Information Collection Request: Revision of a currently approved information collection; Title of Information Collection: Healthcare Fraud Prevention Partnership (HFPP): Data Sharing and Information Exchange; Use: Section 1128C(a)(2) of the Social Security Act (42 U.S.C. 1320a-7c(a)(2)) authorizes the Secretary and the Attorney General to consult, and arrange for the sharing of data with, representatives of health plans for purposes of establishing a Fraud and Abuse Control Program as specified in Section 1128(C)(a)(1) of the Social Security Act. The result of this authority has been the establishment of the HFPP. The HFPP was officially established by a Charter in the fall of 2012 and signed by HHS Secretary Sibelius and U.S. Attorney General Holder.

Data sharing within the HFPP primarily focuses on conducting studies for the purpose of combatting fraud, waste, and abuse. These studies are intended to target specific vulnerabilities within the payment systems in both the public and private healthcare sectors. The HFPP and its committees design and develop studies in coordination with the TTP. The core function of the TTP is to manage and execute the HFPP studies within the HFPP. Specifically, the TTP collects and consolidates partner (both public and private) study-related data in order to share information among the HFPP pertaining to analytical tools and techniques; study analysis; successful anti-fraud practices, trends and vulnerabilities; and reports that maintain the confidentiality of its source data. Form Number: CMS-10501 (OMB control number: 0938-1251); Frequency: Occasionally; Affected Public: Private sector (Business or other for-profits); Number of Respondents: 20; Total Annual Responses: 20; Total Annual Hours: 360. (For policy questions regarding this collection contact Marnie Dorsey at 410-786-5942.)

2. Type of Information Collection Request: New collection (Request for a new OMB control number); Title of Information Collection: Montana Health and Economic Livelihood Partnership (HELP) Federal Evaluation; Use: CMS approved the Montana Health and Economic Livelihood Partnership (HELP) demonstration in November 2015. The demonstration provides flexibility for the expanded Medicaid population under the Affordable Care Act for individuals in the state of Montana (hereinafter, “State” or “Montana”).

Montana expects to achieve the following: (1) Premiums and copayment liability that will encourage HELP Program enrollees to be discerning health care purchasers, take personal responsibility for their health care decisions and develop health-conscious behaviors as consumers of health care services; and (2) 12 month continuous eligibility to improve continuity of care. The State also seeks to demonstrate the following over the life of the demonstration: (1) Premiums will not pose a barrier to accessing care for HELP Program beneficiaries; (2) HELP Program enrollees will exhibit health-conscious health care behaviors without harming beneficiary health; and (3) 12 month continuous eligibility will promote continuity of coverage and reduce churning rates.

The demonstration includes the authority to charge premiums of 2 percent of household income to individuals in the new adult group with incomes between 50 and 133 percent of the FPL. The state will credit such individuals' premium obligation towards copayments due. Non-payment of premiums may result in disenrollment for individuals with incomes above 100 percent of the FPL after notice and a grace period. Individuals at or below 100 percent who stop paying premiums will not be disenrolled.

To adequately inform CMS decision-making regarding Section 1115 Demonstrations, this federal evaluation of Montana's HELP demonstration includes surveys and associated focus groups, and informational interviews conducted during site visits and via phone.

Form Number: CMS-10635 (OMB control number: 0938-New); Frequency: Once and on occasion; Affected Public: Individuals and Households, Business or other for-profits and Not-for-profits institutions, and State, Local, or Tribal Governments; Number of Respondents: 1,458; Total Annual Responses: 1,458; Total Annual Hours: 568. (For policy questions regarding this collection contact Serge King at 410-786-6052.)

Dated: April 3, 2017.
William N. Parham, III,
Director, Paperwork Reduction Staff, Office of Strategic Operations and Regulatory Affairs.

[FR Doc. 2017-06827 Filed 4-5-17; 8:45 am]

BILLING CODE 4120-01-P